DEPARTMENT OF THE INTERIOR

Bureau of Land Management

[LLCON06000 L16100000.DP0000 ]

Notice of Meetings, Dominguez-Escalante National Conservation Area Advisory Council

AGENCY: Bureau of Land Management, Interior.

ACTION: Notice of public meetings.

SUMMARY: In accordance with the Federal Land Policy and Management Act of 1976 and the Federal Advisory Committee Act of 1972, the U.S. Department of the Interior, Bureau of Land Management (BLM), Dominguez-Escalante National Conservation Area Advisory Council (Council) will meet as indicated below.

DATES: Meetings will be held on April 3, 2013, May 1, 2013, and May 29, 2013. All meetings will begin at 3 p.m. and will normally adjourn at 6 p.m. Any changes in the duration of the meetings will be posted on the Dominguez-Escalante Resource Management Plan Web site at http://www.blm.gov/co/st/en/nca/denca/denca_rmp.html. Field trips may be scheduled as well. Notice of field trips will also be posted online.

ADDRESSES: The meeting on April 3 will be held at the Mesa County Courthouse Annex, Multi-Purpose Room, 544 Rood Avenue, Grand Junction, CO. The meeting on May 1 will be held at the Delta County Courthouse, Room 234, 501 Palmer Street, Delta, CO. The meeting on May 29 will be held at the Mesa County Courthouse Annex, Training Room A, 544 Rood Avenue, Grand Junction, CO.

FOR FURTHER INFORMATION CONTACT: Katie Stevens, Advisory Council Designated Federal Official, 2815 H Road, Grand Junction, CO 81506; phone: (970) 244-3049; email: kasteven@blm.gov.

SUPPLEMENTARY INFORMATION: The 10-member Council advises the Secretary of the Interior, through the BLM, on a variety of planning and management issues associated with the resource management planning process for the Dominguez-Escalante National Conservation Area and Dominguez Canyon Wilderness. Topics of discussion during the meeting may include informational presentations from various resource specialists working on the resource management plan, as well as Council reports related to the following topics: Recreation, fire management, land-use planning process, invasive species management, travel management, wilderness, cultural resource management, and other resource management topics of interest to the Council that were raised during the planning process. These meetings are anticipated to occur monthly. Dates, times and agendas for additional meetings may be determined at future Advisory Council Meetings and will be published in the Federal Register and announced through local media and on the BLM's Web site for the Dominguez-Escalante planning effort, www.blm.gov/co/st/en/nca/denca/denca_rmp.html. These meetings are open to the public. The public may present written comments to the Council. Each formal Council meeting will have time allocated at the beginning and end of the meeting for hearing public comments. Depending on the number of people wishing to comment and time available, the time for individual oral comments may be limited at the discretion of the chair.

Helen M. Hankins,
BLM Colorado State Director.

[FR Doc. 2013-03425 Filed 2-13-13; 8:45 am]

BILLING CODE 4310-JB-P